DEPARTMENT OF HEALTH AND HUMAN SERVICES

Centers for Disease Control and Prevention

[60-Day-09-09AI]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the Action Plan for the National Public Health Initiative on Diabetes and Women's Health—New—National Center for Chronic Disease Prevention and Health Promotion (NCCDPHP), Centers for Disease Control and Prevention (CDC).

Background and Brief Description

Approximately 24 million Americans have diabetes, and more than 9 million of these individuals are women. It is projected that from 2000 to 2025, women will represent more than half of all cases of diabetes in the United States.

Diabetes can have unique and profound effects on women's lives and health. For instance, diabetes is a more common cause of coronary heart disease among women than men. In addition, among people with diabetes, the prognosis of heart disease is worse for women than men, with women having poorer quality of life and lower survival rates. The burden of diabetes for women is also unique because the disease can affect mothers and their unborn children. After pregnancy, as many as 10-50% of women with gestational diabetes mellitus (GDM) are diagnosed with type 2 diabetes within five years of delivery. The offspring of women with a history of gestational diabetes are also at risk for becoming obese during childhood or adolescence, which may increase their risk of developing type 2 diabetes later in life.

To address the burden of diabetes on women's health, the National Public Health Initiative on Diabetes and Women's Health (“The Initiative”) was established to provide support and resources for the creation and implementation of a national public health Action Plan. The Initiative is co-sponsored by the American Diabetes Association (ADA), the American Association of Diabetes Educators (AADE), the American Public Health Association (APHA), the Association of State and Territorial Health Officials (ASTHO), and the Centers for Disease Control and Prevention (CDC). CDC's Division of Diabetes Translation is dedicated to the prevention and control of diabetes, and to reducing or eliminating health disparities through targeted research, programs, and partnerships.

The Initiative's Action Plan identifies gaps in diabetes-related research and programmatic activities, and strategic objectives, within the areas of: (1) Community health; (2) diabetes state programs; (3) education and community outreach; (4) quality of care; (5) research; and (6) surveillance. Co-sponsors of the Initiative and other partner organizations have been encouraged to act on the deficiencies and priorities identified in the Action Plan.

CDC proposes to conduct a survey to assess collective progress toward achieving the objectives outlined in the Action Plan. The survey will also request information about the specific strategies, steps, resources and partnerships that have been employed to meet the objectives. Respondents will be the 4 co-sponsors of The Initiative, 51 CDC-funded, state-based diabetes prevention and control programs, and approximately 230 private-sector public health organizations with a focus on diabetes and/or women's health. Survey responses will be compiled into a report and disseminated to respondents, allowing them to learn about each other's activities and the steps needed to replicate successful diabetes prevention and control efforts.

Because organizations are in various stages of Action Plan implementation, information will be collected once per year for a period of 3 years, and the report will be updated annually to reflect recent activities and progress. Private-sector partners will submit one survey response per organization per year. Co-sponsors will receive a modified version of the survey. Due to the size and complexity of the activities managed by co-sponsors, the co-sponsoring organizations will have the option to submit multiple survey responses from different areas of the organization, in order to capture the full range of activities conducted. It is estimated that each co-sponsor will submit an average of three responses.

Information will be collected electronically through web-based surveys. There are no costs to respondents other than their time.

Estimated Annualized Burden Hours
Type of respondents | Form name | Number of respondents | Number of responses per respondent | Average burden per response (in hrs) | Total burden (in hrs)
Co-Sponsors | Co-Sponsor Survey | 4 | 3 | 30/60 | 6
State and Local Govt. Partners | Partner Survey | 51 | 1 | 30/60 | 26
Private Sector Partners |  | 230 | 1 | 30/60 | 115
Total |  |  |  | 147

Dated: December 18, 2008.
Maryam I. Daneshvar,
Acting Reports Clearance Officer, Centers for Disease Control and Prevention.

[FR Doc. E8-30771 Filed 12-24-08; 8:45 am]

BILLING CODE 4163-18-P